DEPARTMENT OF ENERGY

Federal Energy Regulatory Commission

[Docket No. EC01-69-000, et al.]

Cogentrix/Batesville, LLC, et al.; Electric Rate and Corporate Regulation Filings

February 15, 2001.

Take notice that the following filings have been made with the Commission:

1. Cogentrix/Batesville, LLC; NRG Energy, Inc.

[Docket No. EC01-69-000]

Take notice that on February 13, 2001, Cogentrix/Batesville, LLC and NRG Energy, Inc. tendered for filing an application under section 203 of the Federal Power Act for approval of the transfer of a 51.37 percent non-managing indirect ownership interest in LSP Energy Limited Partnership to NRG Energy, Inc. LSP Energy Limited Partnership owns and operates an approximately 837 MW electric generation facility located in Batesville, Mississippi.

Comment date: March 6, 2001, in accordance with Standard Paragraph E at the end of this notice.

2. American Electric Power Service Corporation

[Docket No. ER01-801-001]

Take notice that on February 12, 2001, American Electric Power Service Corporation (AEPSC), pursuant to an unreported letter order dated January 24, 2001, in the above-captioned docket, submitted for filing an original and six copies of rate schedule sheets accepted for filing therein designated according to Order No. 614, FERC Stats. & Regs. ¶ 31,096 (2000). The Service Agreements became effective December 28, 2000.

Comment date: March 5, 2001, in accordance with Standard Paragraph E at the end of this notice.

3. Northeast Utilities Service Company

[Docket No. ER01-1214-000]

Take notice that on February 12, 2001, Northeast Utilities Service Company (NUSCO), tendered for filing a Service Agreement with Engage Energy America LLC (Engage) under the NU System Companies' System Sale For Resale Tariff No. 7.

NUSCO states that a copy of this filing has been mailed to Engage.

NUSCO requests that the Service Agreement become effective on January 1, 2001.

Comment date: March 5, 2001, in accordance with Standard Paragraph E at the end of this notice.

4. PECO Energy Company

[Docket No. ER01-1215-000]

Take notice that on February 12, 2001, PECO Energy Company (PECO) filed under Section 205 of the Federal Power Act, 16 U.S.C. S 792 et seq., an Agreement dated January 30, 2001 with Commonwealth Energy Corporation (CEC) under PECO's FERC Electric Tariff Original Volume No. 1 (Tariff).

PECO requests an effective date of February 9, 2001 for the Agreement.

PECO states that copies of this filing have been supplied to Commonwealth Energy Corporation and to the Pennsylvania Public Utility Commission.

Comment date: March 5, 2001, in accordance with Standard Paragraph E at the end of this notice.

5. Allegheny Energy Service Corporation, on behalf of Monongahela Power Company, the Potomac Edison Company, and West Penn Power Company (Allegheny Power)

[Docket No. ER01-1216-000]

Take notice that on February 12, 2001, Allegheny Energy Service Corporation on behalf of Monongahela Power Company, The Potomac Edison Company, and West Penn Power Company (Allegheny Power), filed an Interconnection Agreement (Agreement) with Allegheny Energy Supply Company, LLC as Service Agreement No. 341 under Allegheny Power's Open Access Transmission Tariff. The proposed effective date under the Agreement is July 1, 2002.

Copies of the filing have been provided to the Public Utilities Commission of Ohio, the Pennsylvania Public Utility Commission, the Maryland Public Service Commission, the Virginia State Corporation Commission, and the West Virginia Public Service Commission.

Comment date: March 5, 2001, in accordance with Standard Paragraph E at the end of this notice.

6. UtiliCorp United Inc.

[Docket No. ER01-1218-000]

Take notice that on February 12, 2001, UtiliCorp United Inc. (UtiliCorp) tendered for filing Service Agreement No. 89 under UtiliCorp's FERC Electric Tariff, Third Revised Volume No. 25, a short-term firm point-to-point transmission service agreement between UtiliCorp's WestPlains Energy-Colorado division and The Legacy Energy Group, LLC.

UtiliCorp requests an effective date for the service agreement of January 31, 2001.

Comment date: March 5, 2001, in accordance with Standard Paragraph E at the end of this notice.

7. UtiliCorp United Inc.

[Docket No. ER01-1219-000]

Take notice that on February 12, 2001, UtiliCorp United Inc. (UtiliCorp) tendered for filing Service Agreement No. 90 under UtiliCorp's FERC Electric Tariff, Third Revised Volume No. 25, a non-firm point-to-point transmission service agreement between UtiliCorp's WestPlains Energy-Colorado division and The Legacy Energy Group, LLC.

UtiliCorp requests an effective date for the service agreement of January 31, 2001.

Comment date: March 5, 2001, in accordance with Standard Paragraph E at the end of this notice.

8. Arizona Public Service Company

[Docket No. ER01-1220-000]

Take notice that on February 12, 2001, Arizona Public Service Company (APS) tendered for filing a Service Agreement to provide Network Integration Transmission Service under APS’ Open Access Transmission Tariff to the Ajo Improvement Company.

A copy of this filing has been served on Ajo Improvement Company and the Arizona Corporation Commission.

Comment date: March 5, 2001, in accordance with Standard Paragraph E at the end of this notice.

9. Consumers Energy Company and International Transmission Company

[Docket No. ER01-1221-000]

Take notice that on February 12, 2001, Consumers Energy Company (Consumers) and International Transmission Company filed the Michigan Electric Coordinated Systems Transmission Interconnection and Control Area Operating Agreement between Consumers Energy Company and International Transmission Company (MECS Agreement). The MECS Agreement replaces and supersedes an existing agreement between Consumers and The Detroit Edison Company regarding the coordinated operation of the power pool commonly known as the Michigan Electric Coordinated Systems.

Comment date: March 5, 2001, in accordance with Standard Paragraph E at the end of this notice.

10. Allegheny Power

[Docket No. ER01-1223-000]

Take notice that on February 12, 2001 West Penn Power Company, Monongahela Power Company, and The Potomac Edison Company all doing business as Allegheny Power (Allegheny Power) filed changes to the Allegheny Power open-access transmission tariff (OATT) to add a new Attachment L containing generator interconnection procedures and Attachments M and N consisting of form of feasibility study agreement and interconnection and operating agreement. Allegheny states that the changes are necessary in order to implement required coordination with PJM utilities in anticipation of the implementation of the PJM West RTO.

Allegheny requests an effective date of February 12, 2001.

Comment date: March 5, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-4376 Filed 2-21-01; 8:45 am]

BILLING CODE 6717-01-P